DEPARTMENT OF THE INTERIOR

Geological Survey

Biological Resources Division; Request for Public Comments on Information Collection To Be Submitted to OMB for Review Under the Paperwork Reduction Act

A proposal for the information collection described below will be submitted to the Office of Management and Budget for approval under the provisions of the Paperwork Reduction Act (44 U.S.C. Chapter 35). Copies of the proposed collection of information may be obtained by contacting the Bureau's clearance officer at the phone number listed below. Comments and suggestions on the proposal should be made within 60 days directly to the Bureau clearance officer, U.S. Geological Survey, 807 National Center, 12201 Sunrise Valley Drive, Reston, Virginia, 20192, telephone (703) 648-7313.

As required by OMB regulations at 5 CFR 1320.8(d)(1), the U.S. Geological Survey solicits specific public comments as to:

1. Whether the collection of information is necessary for the proper performance of the functions on the bureaus, including whether the information will have practical utility;

2. The accuracy of the bureau's estimate of the burden of the collection of information, including the validity of the methodology and assumptions used;

3. The quality, utility, and clarity of the information to be collected; and

4. How to minimize the burden of the collection of information on those who are to respond, including the use of appropriate automated, electronic, mechanical, or other forms of information technology.

Title: North American Amphibian Monitoring Program (NAAMP).

Current OMB Approval Number: New collection.

SUMMARY: The collection of information referred herein applied to a World-Wide Web site that permits individuals to submit records of the number of calling amphibians at survey routes. The Web site is termed NAAMP. Information will be used by scientists and federal, state, and local agencies to monitor amphibian populations and detect population trends.

Estimated Annual Number of Respondents: 5000.

Estimated Annual Burden Hours: 20,000 hours.

Affected Public: Primarily U.S. residents.

FOR FURTHER INFORMATION CONTACT: To obtain copies of the survey, contact the Bureau clearance officer, U.S. Geological Survey, 807 National Center, 12201 Sunrise Valley Drive, Reston, Virginia, 20192, telephone (703) 648-7313, or see the website at www.mpl-pwrc.usgs.gov/amphibs.html.

Dated: February 11, 2000.
Denny Fenn,
Chief Biologist.

[FR Doc. 00-4502 Filed 2-24-00; 8:45 am]

BILLING CODE 4310-Y7-M